DEPARTMENT OF HEALTH AND HUMAN SERVICES

National Institutes of Health

Office of Dietary Supplements (ODS) 2010-2014 Strategic Plan

ACTION: Notice of availability of the ODS Strategic Plan for 2010-2014.

SUMMARY: The Office of Dietary Supplements (ODS) at the National Institutes of Health (NIH) has completed a strategic planning process resulting in the development of the ODS Strategic Plan for 2010-2014, entitled Strengthening Knowledge and Understanding of Dietary Supplements. The strategic plan is available in pdf format on the ODS Web site: http://ods.od.nih.gov/pubs/strategicplan/StrategicPlan2010-2014.pdf.

The ODS strategic plan was developed after more than a year's worth of reflection on its programs, activities, and accomplishments, as well as anticipated challenges for the future. It was also shaped by the thoughtful input, comments, and advice received from ODS stakeholder communities throughout the federal government, academia, the dietary supplement industry, consumer advocacy and education groups, and interested consumers.

FOR FURTHER INFORMATION CONTACT: Office of Dietary Supplements, National Institutes of Health, 6100 Executive Boulevard, Room 3B01, Bethesda, MD 20892-7517, E-mail: ODS@nih.gov.

SUPPLEMENTARY INFORMATION:

Background

The mission of the Office of Dietary Supplements (ODS) is to strengthen knowledge and understanding of dietary supplements by evaluating scientific information, stimulating and supporting research, disseminating research results, and educating the public to foster an enhanced quality of life and health for the U.S. population. ODS was established in the Office of the Director, NIH, in 1995 as a major provision of the Dietary Supplement Health and Education Act of 1994 (DSHEA).

Dated: February 22, 2010.
Paul M. Coates,
Director, Office of Dietary Supplements, Office of the Director, National Institutes of Health.

[FR Doc. 2010-4180 Filed 2-26-10; 8:45 am]

BILLING CODE 4140-01-P